DEPARTMENT OF HOMELAND SECURITY

Federal Emergency Management Agency

[Docket ID FEMA-2008-0010]

Board of Visitors for the National Fire Academy

AGENCY: Federal Emergency Management Agency, DHS.

ACTION: Committee Management; Notice of Open Teleconference Federal Advisory Committee Meeting.

SUMMARY: The Board of Visitors for the National Fire Academy (Board) will meet via teleconference on Wednesday, December 5, 2012. The meeting will be open to the public.

DATES: The meeting will take place on Wednesday, December 5, 2012, from 1:30 to 4:15 p.m. Eastern Standard Time. Please note that the meeting may close early if the Board has completed its business.

ADDRESSES: Members of the public may participate by teleconference and may contact Cindy Wivell as listed below in the FOR FURTHER INFORMATION CONTACT section by close of business November 30, 2012, to obtain the call-in number and access code. For information on services for individuals with disabilities or to request special assistance, contact Cindy Wivell as soon as possible.

To facilitate public participation, we are inviting public comment on the issues to be considered by the Board as listed below in the SUPPLEMENTARY INFORMATION section. Comments must be submitted in writing no later than November 30, 2012, and must be identified by docket ID FEMA-2008-0010 and may be submitted by one of the following methods:

• Federal eRulemaking Portal: http://www.regulations.gov. Follow the instructions for submitting comments.

• Mail/Hand Delivery: Cindy Wivell, 16825 South Seton Avenue, Emmitsburg, Maryland 21727.

Instructions: All submissions received must include the words “Department of Homeland Security” and the docket ID for this action. Comments received will be posted without alteration at http://www.regulations.gov, including any personal information provided.

Docket: For access to the docket to read background documents or comments received by the Board, go to http://www.regulations.gov.

There will be a 10-minute comment period after each agenda item. Please note that the public comment period may end for each agenda item, following the last call for comments. Contact Cindy Wivell to register as a speaker.

FOR FURTHER INFORMATION CONTACT: Cindy Wivell, 16825 South Seton Avenue, Emmitsburg, Maryland 21727, telephone (301) 447-1157, fax (301) 447-1834, and email Cindy.Wivell@fema.dhs.gov.

SUPPLEMENTARY INFORMATION: Notice of this meeting is given under the Federal Advisory Committee Act, 5 U.S.C. App. (Pub. L. 92-463).

Purpose of the Board

The purpose of the Board is to review annually the programs of the National Fire Academy (Academy) and advise the Administrator of the Federal Emergency Management Agency (FEMA), through the United States Fire Administrator, of the operation of the Academy and any improvements therein that the Board deems appropriate. The Board makes interim advisories to the Administrator of FEMA, through the United States Fire Administrator, whenever there is an indicated urgency to do so in fulfilling its duties. In carrying out its responsibilities, the Board examines Academy programs to determine whether these programs further the basic missions which are approved by the Administrator of FEMA, examines the physical plant of the Academy to determine the adequacy of the Academy's facilities, and examines the funding levels for Academy programs. The Board submits an annual report through the United States Fire Administrator to the Administrator of FEMA, in writing. The report provides detailed comments and recommendations regarding the operation of the Academy.

Agenda

The Board will select a Chairperson and Vice Chairperson for fiscal year (FY) 2013, and will review and approve the minutes of the July 26, 2012 meeting. The Board will discuss deferred maintenance and capital improvements on the National Emergency Training Center (NETC) campus, to include FY 2013 Budget Planning. The Board will review Academy program activities including mediated instructor-led Online Course Pilot update, new National Fire Academy (NFA) Online courses, Executive Fire Officer Program Prerequisites/Accreditation update, curriculum assessment status report and American Council on Education report, anticipated FY 2013 curriculum developments, and changes in the State training system/semi-annual course call.

The Board will review the status of the Fire and Emergency Services Higher Education (FESHE) Institutional Recognition and Certificate Program and the progress of Training Resources And Data Exchange (TRADE)/FESHE Adobe Connect electronic meetings, the future of the Degrees at a Distance Program (DDP) and how changes in the DDP Program will further the NFA goal of standardizing fire science and emergency services undergraduate degree programs. In addition, the Board will be briefed on the FESHE/Professional Development Subcommittee activities.

The public will have an opportunity to comment on these issues prior to deliberation and final action by the Board. After deliberation, the Board will recommend actions to the Superintendent of the National Fire Academy and the Administrator of FEMA.

Kirby E. Kiefer,
Deputy Superintendent, National Fire Academy, United States Fire Administration, Federal Emergency Management Agency.

[FR Doc. 2012-28221 Filed 11-19-12; 8:45 am]

BILLING CODE 9111-45-P